DEPARTMENT OF COMMERCE

National Oceanic and Atmospheric Administration

RIN 0648-XA846

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) and its Mid-Atlantic Monkfish Subcommittee will hold public meetings.

DATES: The meetings will be held Tuesday, December 13 through Thursday, December 15, 2011. See SUPPLEMENTARY INFORMATION for specific dates and times.

ADDRESSES: The meetings will be held at Kingsmill, 1010 Kingsmill Road, Williamsburg, VA 23185; telephone: (757) 253-1703.

Council address: Mid-Atlantic Fishery Management Council, 800 N. State St., Suite 201, Dover, DE 19901-3910; telephone: (302) 674-2331.

FOR FURTHER INFORMATION CONTACT: Dr. Christopher Moore, Executive Director, Mid-Atlantic Fishery Management Council; telephone: (302) 674-2331 ext. 255.

SUPPLEMENTARY INFORMATION:

Tuesday, December 13, 2011

9 a.m. until noon—The Monkfish Subcommittee will meet.

1 p.m.—The Council will convene.

1 p.m. until 2:30 p.m.—There will be a presentation on the CIE Review of the June 2012 Excessive Shares Workshop and Council discussion on next steps.

2:30 p.m. until 3:30 p.m.—An Atlantic Wind Connection Project presentation will occur.

3:30 p.m. until 4:30 p.m.—A presentation from the National Marine Fisheries Service (NMFS) Habitat Division will occur.

4:30 p.m. until 5:30 p.m.—A discussion on the November 14 Ecosystem and Ocean Planning Committee meeting will be held.

Wednesday, December 14, 2011

8 a.m.—The Council will convene.

8 a.m. until 4 p.m.—The Council will adopt recommendations for 2012 commercial and recreational harvest levels and commercial management measures for summer flounder and scup and finalize summer flounder, scup, and black sea bass recreational management measures for 2012 in conjunction with the Atlantic States Marine Fisheries Commission's (ASMFC) Summer Flounder, Scup, and Black Sea Bass Boards.

4 p.m. until 5:30 p.m.—There will be a review with the ASMFC Board of Amendment 17 to the Summer Flounder, Scup, and Black Sea Bass FMP alternatives.

5:30 p.m. until 6:30 p.m.—There will be a Public Listening Session.

Thursday, August 18, 2011

8:30 a.m.—The Council will convene.

8:30 a.m. until 9 a.m.—The Ricks E Savage Award will be presented.

9 a.m. until 9:30 a.m.—The Council will receive a presentation on Fishery Management Councils: Decision-making, Communication, and Social Factors Associated with Ecosystem-based Fisheries Management.

9:30 a.m. until 1:30 p.m.—The Council will conduct its regular Business Session, receive Organizational Reports, Council Liaison Reports, Executive Director's Report, Science Report, Committee Reports, and any continuing and/or new business.

Agenda items by day for the Council's Committees and the Council itself are:

On Tuesday, December 13, the Mid-Atlantic Monkfish Subcommittee will discuss issues and concerns unique to the Mid-Atlantic Monkfish fishery and potential management solutions. The Council will receive presentation on the CIE Review of the June 2012 Excessive Shares Workshop and followed by Council discussion on next steps. Kris Ohleth will provide the Council with a presentation on the Atlantic Wind Connection Project. The Council will receive a presentation from Chris Boelke and Lou Chiarella of the NMFS Habitat Division. The Council will discuss and identify the next steps related to the November 14 Ecosystem and Ocean Planning Committee meeting.

On Wednesday, December 14, the Council in conjunction with the ASMFC's Summer Flounder, Scup, and Black Sea Bass Boards will review the Scientific and Statistical Committee's (SSC) and the associated Monitoring Committee's and Advisory Panel's specification recommendations and adopt 2012 commercial and recreational harvest levels and commercial management measures for summer flounder and scup, and finalize recreational management measures for summer flounder, scup, and black sea bass. The Council will review alternatives to address spatial and regional management of the black sea bass recreational fishery and discuss potential complimentary action by the Council and ASMFC Board related to Amendment 17 to the Summer Flounder, Scup, and Black Sea Bass FMP.

On Thursday, December 15, the Council will present the Ricks E Savage Award. The Council will receive a presentation by Ingrid Biedron of Cornell University on Fishery Management Councils: Decision-making, Communication, and Social Factors Associated with Ecosystem-based Fisheries Management. The Council will hold its regular Business Session to approve the October 2011 minutes and address any outstanding actions from the October 2011 meeting, review and approve SOPPs, review and approve 5-year research plan, receive Organizational Reports, Liaison Reports, the Executive Director's Report, the Science Report, Committee Reports, and any continuing and/or new business.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: November 22, 2011.
Tracey L. Thompson,
Acting Director, Office of Sustainable Fisheries, National Marine Fisheries Service.

[FR Doc. 2011-30459 Filed 11-25-11; 8:45 am]

BILLING CODE 3510-22-P